FEDERAL COMMUNICATIONS COMMISSION

47 CFR Part 73

[DA 09-2280; MB Docket No. 08-3; RM-11407]

Radio Broadcasting Services, Wheatland, WY

AGENCY: Federal Communications Commission.

ACTION: Final rule.

SUMMARY: The staff grants a rulemaking petition filed by Appaoloosa Broadcasting, Company, Inc., the licensee of Station KIMX(FM), Channel 244C2, Laramie, Wyoming, by substituting FM Channel 286A for vacant Channel 247A at Wheatland, Wyoming. The reference coordinates for Channel 286A at Wheatland are 42-04-28 NL and 104-56-51 WL.

DATES: Effective December 7, 2009.

ADDRESSES: Federal Communications Commission, 445 12th Street, SW, Washington, DC 20554.

FOR FURTHER INFORMATION CONTACT: Andrew J. Rhodes, Media Bureau, (202) 418-2180.

SUPPLEMENTARY INFORMATION: This is a summary of the Commission's Report and Order, MB Docket No. 08-3, adopted October 21, 2009, and released October 23, 2009. The full text of this Commission document is available for inspection and copying during normal business hours in the FCC Reference Information Center (Room CY-A257), 445 12th Street, SW., Washington, DC.

The Notice of Proposed Rule Making in this proceeding stated that Appaloosa Broadcasting Company's rulemaking petition was filed as part of a hybrid application and rulemaking proposal involving its concurrently filed minor change application (File No. BPH-20070822AAL). See 73 FR 4513, published January 25, 2008. In this application, Appaloosa proposes the substitution of Channel 245A for Channel 244C2 at Laramie, the reallotment of Channel 245A to Nunn, Colorado, and the associated modification of its license for Station KIMX(FM). The modification of Laramie license is contingent upon the channel substitution at Wheatland. The Report and Order notes that Appaloosa's application is being granted simultaneously with the release of the Report and Order.

Channel 247A at Wheatland was allotted in MB Docket No. 05-98. See 71 FR 4527, published January 27, 2006. This vacant FM channel was inadvertently removed from the FM Table of Allotments in MB Docket 05-210. See 71 FR 76208, published December 20, 2006. As stated above, we are substituting Channel 286A for vacant Channel 247A at Wheatland, Wyoming, to accommodate the Station KIMX(FM) hybrid application.

The complete text of this decision may also be purchased from the Commission's copy contractor, Best Copy and Printing, Inc., 445 12th Street, SW, Room CY-B402, Washington, DC 20554, 800-378-3160 or via the company's website, http://www.bcpiweb.com.

This document does not contain any information collection requirements subject to the Paperwork Reduction Act of 1995, Public Law 104-13. In addition, therefore, it does not contain any information collection burden ”for small business concerns with fewer than 25 employees,” pursuant to the Small Business Paperwork Relief Act of 2002, Public Law 107-198, see 44 U.S.C. 3506(c)(4). The Commission will send a copy of the Report and Order in this proceeding in a report to be sent to Congress and the Government Accountability Office pursuant to the Congressional Review Act, see 44 U.S.C. 801(a)(1)(A).

List of Subjects in 47 CFR Part 73

Radio, Radio broadcasting.

As stated in the preamble, the Federal Communications Commission amends 47 CFR part 73 as follows:

PART 73 - RADIO BROADCAST SERVICES

1. The authority for Part 73 continues to read as follows:

Authority: 47 U.S.C. 154, 303, 334, 336.

Section 73.202 [Amended]

2. Section 73.202(b), the Table of FM Allotments under Wyoming, is amended by adding Wheatland, Channel 286A.

Federal Communications Commission.
John A. Karousos,
Assistant Chief, Audio Division, Media Bureau.

[FR Doc. E9-27700 Filed 11-18-09; 8:45 am]

BILLING CODE 6712-01-S